DEPARTMENT OF HEALTH AND HUMAN SERVICES

Administration for Children and Families

Office of Community Services; Community Services Block Grant Training and Technical Assistance Program: Special State Technical Assistance

Announcement Type: Initial.

Funding Opportunity Number: HHS-2005-ACF-OCS-EZ-0026.

CFDA Number: 93.569.

Due Date for Applications: Application is due June 27, 2005.

Executive Summary: The Office of Community Services (OCS) within the Administration for Children and Families (ACF) announces that competing applications will be accepted for a new grant pursuant to the Secretary's authority under section 674(b) of the Community Services Block Grant (CSBG) Act, as amended, by the Community Opportunities, Accountability, and Training and Educational Services (COATES) Human Services Reauthorization Act of 1998 (Pub. L. 105-285).

The proposed grant program, the Special State Technical Assistance Program,will fund 12 to 15 State CSBG Lead Agenciesand/or State Community Action Associations to develop and support interventions in cases where an eligible entity is in a crisis situation.

I. Funding Opportunity Description

Under sections 674(b)(2)(B) and 678A, funds may be used by the Secretary to assist States in carrying out corrective action activities of the CSBG and monitoring to correct programmatic deficiencies of eligible entities. States are required to determine whether eligible entities meet the performance goals, administrative standards, financial management obligations and other requirements of the State. The CSBG legislation mandates that States offer to eligible entities training and technical assistance (T&TA), as appropriate, prior to any termination procedures. It also requires States to carry out corrective activities and to monitor all eligible entities at least every three years.

The CSBG Act requires States to conduct regular, on-site reviews of eligible entities. When a State determines that an eligible entity has a deficiency that must be corrected, the CSBG legislation mandates that the State offer an eligible entity T&TA, if appropriate, to help correct such a deficiency. A State may support this T&TA with the CSBG funds remaining after it has made grants to eligible entities. However, OCS recognizes that, in some instances, the problem to be addressed may be of such a complex or pervasive nature that it cannot be adequately addressed with the resources available to the State CSBG Administrator.

In addition to the standard procedures outlined above, H.R. Rep. 108-636 (September 7, 2004) makes the following recommendation:”The Committee further encourages Training and Technical Assistance funding appropriated for fiscal year 2005 to be used for activities to carry out corrective action and monitoring activities (including the development of reporting systems and electronic data systems) to assist States in continuing to improve their local programs.”

Definitions of Terms

The following definitions apply:

Community Action Agency (CAA)—refers to local-level organizations that are Community Services Block Grant (CSBG) Eligible Entities (Section 673(1)A))—the term “eligible entity” means an entity that is an eligible entity described in Section 673(1)(a) of the CSBG Act. They provide a number of types of assistance with the goals of reducing poverty and enabling low-income families to become economically self-sufficient.

Community Services Network—refers to the various organizations involved in planning and implementing programs funded through the CSBG or providing training, technical assistance or support to them. The network includes local CAAs and other eligible entities; State CSBG offices and their national association; CAA State, regional and national associations; and related organizations that collaborate and participate with CAAs and other eligible entities in their efforts on behalf of low-income people.

Cooperative Agreement—an award instrument of financial assistance when substantial involvement is anticipated between the awarding office, (the Federal government) and the recipient during performance of the contemplated project. Substantial involvement may include collaboration or participation by OCS staff in activities specified in the award and, as appropriate, decision-making at specified milestones related to performance. The involvement may range from joint conduct of a project to OCS approval prior to the recipient's undertaking the next phase in a project.

Eligible Entities—(Section 673(1)(A))—an eligible entity as described in section 673(1)(A) of the CSBG Act (as in effect on the day before the date of enactment of the COATES Human Services Reauthorization Act of 1998) or is designated by the process described in section 676A (including an organization serving migrant or seasonal farmworkers that is so described or designated) and has a tripartite board (Section 676B of the CSBG Act) or other mechanism described in the CSBG Act.

Special Note: Under the Act, CAAs are eligible entities; however not all eligible entities are CAAs. Throughout this announcement, the reference is to organizations defined in section 673(1)(A) of the CSBG Act whenever CAAs are mentioned.

Nationwide—refers to the scope of the technical assistance, training, data collection, or other capacity-building projects to be undertaken with grant funds. Nationwide projects must provide for the implementation of technical assistance, training or data collection for all or a significant number of States, and the CAAs and other local service providers who administer CSBG funds.

Non-profit Organization—refers to an organization, including faith-based or community-based, which meets the requirement for proof of non-profit status in the “Additional Information on Eligibility” section of this announcement and has demonstrated experience in providing training to individuals and organizations on methods of effectively addressing the needs of low-income families and communities.

Outcome Measures—are indicators that focus on the direct results one wants to have on customers and on communities.

Performance Measurement—is a tool used to assess how a program is accomplishing its mission through the delivery of products, services and activities.

Results-Oriented Management and Accountability (ROMA) System—ROMA is a system that provides a framework for focusing on results for local agencies funded by the CSBG Program. It involves setting goals and strategies and developing plans and techniques that focus on a result-oriented performance based model for management.

State—means each of the 50 States, the District of Columbia, and the Commonwealth of Puerto Rico. Except where specifically noted, for purposes of this program announcement, it also includes Territories as defined below.

Technical assistance—is an activity, generally utilizing the services of an expert (often a peer), aimed at enhancing capacity, improving programs and systems, or solving specific problems. Such services may be provided proactively to improve systems or as an intervention to solve specific problems.

Territories—refers to Guam, American Samoa, the United States Virgin Islands, and the Commonwealth of the Northern Mariana Islands.

Training—is an educational activity or event that is designed to impart knowledge, understanding or increase the development of skills. Such training activities may be in the form of assembled events such as workshops, seminars, conferences or programs of self-instructional activities.

Program Purpose, Scope and Focus

The purpose of this program priority area is to improve the capacity of States in carrying out corrective action activities and monitoring to correct programmatic deficiencies of eligible entities. The grant will support interventions in cases where an eligible entity is in a crisis situation. It will preclude the need for termination hearings and proceedings by stabilizing eligible entities in crises and correcting programmatic deficiencies, if possible.

Program Statutes

Section 319 of Public Law 101-121, signed into law on October 23, 1989, imposes prohibitions and requirements for disclosure and certification related to lobbying on recipients of Federal contracts, grants, cooperative agreements, and loans. It provides exemptions for Indian tribes and tribal organizations. Current and prospective recipients (and their sub-tier contractors and/or grantees) are prohibited from using Federal funds, other than profits from a Federal contract, for lobbying Congress or any Federal agency in connection with the award of a contract, grant, cooperative agreement, or loan. In addition, for each award action in excess of $100,000 (or $150,000 for loans) the law requires recipients and their sub-tier contractors and/or sub-grantees (1) to certify that they have neither used nor will use any appropriated funds for payment to lobbyists, (2) to disclose the name, address, payment details, and purpose of any agreements with lobbyists whom recipients or their sub-tier contractors or sub-grantee will pay with profits or non-appropriated funds on or after December 22, 1989, and (3) to file quarterly updates about the use of lobbyists if material changes occur in their use. The law establishes civil penalties for noncompliance. Required Certification and Disclosure forms to be submitted with your application are attached.

Public Law 103-227, Part C. Environmental Tobacco Smoke, also known as the Pro-Children Act of 1994 (Act), requires that smoking not be permitted in any portion of any indoor facility owned or leased or contracted for by an entity and used routinely or regularly for the provision of health, day care, education, or library services to children under the age of 18, if the services are funded by Federal programs either directly or through States and local government by Federal grant, contract, loan or loan guarantee. The law does not apply to facilities funded solely by Medicare or Medicaid funds, and portions of facilities used for in-patient drug or alcohol treatment. Failure to comply with the provisions of the law may result in the imposition of a civil monetary penalty of up to $1,000 per day and/or the imposition of an administrative compliance order on the responsible entity.

By signing and submitting this application the applicant certifies that s/he will comply with the requirement of the Act. The applicant/grantee further agrees that it will require the language of this certification be included in any sub-awards, which contain provisions for children's services and that all sub-grantees shall certify accordingly.

Priority Area 1

Special State Technical Assistance Program

1. Description: The purpose of this program priority area is to improve the capacity of States in carrying out corrective action activities and monitoring to correct programmatic deficiencies of eligible entities. The grant will support interventions in cases where a CSBG eligible entity is in a crisis situation. It will preclude the need for termination hearings and proceedings by stabilizing eligible entities in crises and correcting programmatic deficiencies, if possible.

The Office of Community Services (OCS) within the Administration for Children and Families (ACF) announces that competing applications will be accepted for a new grant pursuant to the Secretary's authority under section 674(b) of the Community Services Block Grant (CSBG) Act, as amended, by the Community Opportunities, Accountability, and Training and Educational Services (COATES) Human Services Reauthorization Act of 1998, (Pub. L. 105-285). The proposed grant program, the Special State Technical Assistance Program, will fund 12 to 15 State CSBG Lead Agencies and/or State Community Action Associations to develop and support interventions in cases where an eligible entity is in a crisis situation.

Under sections 674(b)(2)(B) and 678A, funds may be used by the Secretary to assist States in carrying out corrective action activities of the CSBG and monitoring to correct programmatic deficiencies of eligible entities. States are required to determine whether eligible entities meet the performance goals, administrative standards, financial management obligations and other requirements of the State. The CSBG legislation mandates that States offer to eligible entities training and technical assistance (T&TA), if appropriate, prior to any termination procedures. It also requires States to carry out corrective activities and to monitor all eligible entities at least every three years.

The CSBG Act requires States to conduct regular, on-site reviews of eligible entities. When a State determines that an eligible entity has a deficiency that must be corrected, the CSBG legislation mandates that the State offer an eligible entity training and technical assistance (T&TA), if appropriate, to help correct such a deficiency. A State may support this T&TA with the CSBG funds remaining after it has made grants to eligible entities. However, OCS recognizes that, in some instances, the problem to be addressed may be of such a complex or pervasive nature that it cannot be adequately addressed with the resources available to the State CSBG Administrator.

In addition to the standard procedures outlined above, the H.R. Rep. 108-636 (September 7, 2004) makes the following recommendation:”The Committee further encourages Training and Technical Assistance funding appropriated for fiscal year 2005 to be used for activities to carry out corrective action and monitoring activities (including the development of reporting systems and electronic data systems) to assist States in continuing to improve their local programs.”

II. Award Information

Funding Instrument Type: Grant.

Anticipated Total Priority Area Funding: $500,000.

Anticipated Number of Awards: 12 to 15.

Ceiling on Amount of Individual Awards per Project Period: $50,000.

Floor on Amount of Individual Awards Per Project Period: $10,000.

Average Projected Award Amount Per Project Period: $33,000.

Length of Project Periods: 12 month project and budget period.

Note: The Fiscal Year 2006 President's Budget does not include or propose funding for the CSBG program.

III. Eligibility Information

1. Eligible Applicants

Non-profits having a 501(c)(3) status with the IRS, other than institutions of higher education. Non-profits that do not have a 501(c)(3) status with the IRS, other than institutions of higher education.

Others (see Additional Information on Eligibility below).

Additional Information on Eligibility: Community Services Block Grant eligible entities, State Community Action Associations, for-profit organizations, non-profit organizations having 501(c)(3) status, and non-profit organizations that do not have 501(c)(3) status. Faith-based organizations are eligible to apply.

As prescribed by the Community Services Block Grant Act (Pub. L. 105-285, section 678A(c)(2)), eligible applicants are eligible entities or statewide or local organizations, or associations with demonstrated expertise in providing training to individuals and organizations on methods of effectively addressing the needs of low-income families and communities.

2. Cost Sharing/Matching

None.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors

Applications that exceed the ceiling amount will be considered non-responsive and will not be eligible for funding under this announcement.

Any application received after 4:30 p.m. eastern time on the deadline date will not be considered for competition.

IV. Application and Submission Information

1. Address to Request Application Package

Dr. Margaret Washnitzer, Office of Community Services Operations Center, 1515 Wilson Blvd., Suite 100, Arlington, VA 22209. Phone: 800-281-9519. E-mail: OCSGRANTS@acf.hhs.gov.

2. Content and Form of Application Submission

Each application must include the following components:

Table of Contents:

a. Abstract of the Proposed Project—very brief, not to exceed 250 words that would be suitable for use in an announcement that the application has been selected for a grant award and which identifies the type of project, the target population and the major elements of the work plan.

b. Completed Standard Form 424—that has been signed by an official of the organization applying for the grant who has authority to obligate the organization legally.

c. Standard Form 424A—Budget Information-Non-Construction Programs.

d. Narrative Budget Justification—for each object class category required under section B, Standard Form 424A.

Project Narrative—A narrative that addresses issues described in the “Application Review Information” and the “Review and Selection Criteria” sections of this announcement.

Application Format: Submit application materials on white 8½ × 11 inch paper only. Do not use colored, oversized or folded materials. Please do not include organizational brochures or other promotional materials, slides, films, clips, etc. The font size may be no smaller than 12 pitch and the margins must be at least one inch on all sides. Number all application pages sequentially throughout the package, beginning with the abstract of the proposed project as page number one. Please present application materials either in loose-leaf notebooks or in folders with pages two-hole punched at the top center and fastened separately with a slide paper fastener.

Page Limitation: The application package including sections for the Table of Contents, Project Abstract, Project and Budget Narratives must not exceed 65 pages. The page limitation does not include the following attachments and appendices: Standard Forms for Assurances, Certifications, Disclosures and appendices. The page limitation also does not apply to any supplemental documents as required in this announcement.

Required Standard Forms: Applicants must provide a Certification Regarding Lobbying. Prior to receiving an award in excess of $100,000, applicants shall furnish an executed copy of the lobbying certification. Applicants must sign and return the certification with their applications.

Applicants must make the appropriate certification of their compliance with the requirements of the Pro-Children Act of 1994 as outlined in Certification Regarding Environmental Tobacco Smoke. By signing and submitting the applications, applicants are providing the certification and need not mail back a certification form.

Additional requirements: The application must contain a signed Standard Form 424 Application for Federal Assistance “SF-424”, a Standard Form 424-A Budget Information “SF-424A” and signed Standard Form 424B Assurance—Non-Construction Programs “SF-424B” completed according to instructions provided in this Program Announcement. The forms SF-424 and the SF-424B must be signed by an official of the organization applying for the grant who has authority to obligate the organization legally. The applicant's legal name as required on the SF-424 (Item 5) must match that listed as corresponding to the Employer Identification Number (Item 6);

1. The application must include a project narrative that meets requirements set forth in this announcement.

2. The application must contain documentation of the applicant's tax-exempt status as indicated in the “Funding Opportunity Description” section of this announcement.

Project summary abstract: Provide a one page (or less) summary of the project description with reference to the funding request.

Full project description requirements: Describe the project clearly in 30 pages or less (not counting supplemental documentation, letters of support or agreements) using the following outline and guidelines. Applicants are required to submit a full project description and must prepare the project description statement in accordance with the following instructions. The pages of the project description must be numbered and are limited to 30 typed pages starting on page one of “Objectives and Need of Assistance”. The description must be doubled-spaced, printed on only one side, with at least ½ inch margins. Pages over the limit will be removed from the competition and will not be reviewed.

The maximum number of pages for supplemental documentation is 10 pages. The supplemental documentation, subject to the 10-page limit, must be numbered and might include brief resumes, position descriptions, proof of non-profit status (if applicable), news clippings, press releases, etc.

Supplemental documentation over the 10-page limit will not be reviewed. Applicants must include letters of support or agreement, if appropriate or applicable, in reference to the project description. Letters of support are not counted as part of the 30-page project description limit or the 10-page supplemental documentation limit.

You may submit your application to us in either electronic or paper format.

To submit an application electronically, please use the http://www.Grants.gov/Apply site. If you use Grants.gov, you will be able to download a copy of the application package, complete it off-line, and then upload and submit the application via the Grants.gov site. ACF will not accept grant applications via email or facsimile transmission.

Please note the following if you plan to submit your application electronically via Grants.gov.

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number.

An original and two copies of the complete application are required. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications: The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Public Law 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Those organizations required to provide proof of non-profit status, please refer to Section III.3.

Please see Section V.1, for instructions on preparing the full project description.

3. Submission Dates and Times

Explanation of Due Dates: The closing date for submission of applications is referenced above in the Due Date for Applications field. Mailed applications postmarked after the closing date will be classified as late.

Deadline: Mailed applications shall be considered as meeting an announced deadline if they are either received on or before the deadline date or sent on or before the deadline date and received by ACF in time for the independent review referenced in Section IV.6.

Applicants must ensure that a legibly dated U.S. Postal Service postmark or a legibly dated, machine produced postmark of a commercial mail service is affixed to the envelope/package containing the application(s). To be acceptable as a proof of timely mailing, a postmark from a commercial mail service must include the logo/emblem of the commercial mail service company and must reflect the date the package was received by the commercial mail service company from the applicant. Private Metered postmarks shall not be acceptable as proof of timely mailing. (Applicants are cautioned that express/overnight mail services do not always deliver as agreed.)

Applications hand carried by applicants, applicant couriers, or by other representatives of the applicant shall be considered as meeting an announced deadline if they are received on or before the deadline date, between the hours of 8 a.m. and 4:30 p.m., eastern time, at the address referenced in Section IV.6., between Monday and Friday (excluding Federal holidays). Applicants are cautioned that express/overnight mail services do not always deliver as agreed.

ACF cannot accommodate transmission of applications by fax. Therefore, applications transmitted to ACF by fax will not be accepted regardless of date or time of submission and time of receipt.

Receipt acknowledgement for application packages will not be provided to applicants who submit their package via mail, courier services, or by hand delivery. Applicants will receive an electronic acknowledgement for applications that are submitted via Grants.gov.

Late applications: Applications which do not meet the criteria above are considered late applications. ACF shall notify each late applicant that its application will not be considered in the current competition.

Extension of deadlines: ACF may extend application deadlines when circumstances such as acts of God (floods, hurricanes, etc.) occur, or when there are widespread disruptions of mail service, or in other rare cases. Determination to extend or waive deadline requirements rest with the Chief Grants Management Officer.

Checklist: You may use the checklist below as a guide when preparing your application package.

What to submit | Required content | Required form or format | When to submit
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF424 | See Section IV.2 | See http://www.acf.hhs.gov/programs/ofs/forms.htm | By application due date.
SF-LLL Certification Regarding Lobbying | See Section IV.2 | See http://www.acf.hhs.gov/programs/ofs/forms.htm | By application due date.
Certification Regarding Environmental Tobacco Smoke | See Section IV.2 | See http://www.acf.hhs.gov/programs/ofs/forms.htm | By application due date.
Assurances | See Section IV.2 | http://www.acf.hhs.gov/programs/ofs/forms.htm | By application due date.
Table of Contents | See Section IV.2 | Found in Section IV.2 | By application due date.
SF424A | See Section IV.2 | See http://www.acf.hhs.gov/programs/ofs/forms.htm | By application due date.
Support Letters | See Section IV.2 |  | By application due date.
Project Narrative | See Section IV | Found in Section IV | By application due date.

Additional Forms: Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Location | When to submit
Survey for Private, Non-Profit Grant Applicants | See form | Found in http://www.acf.hhs.gov/programs/ofs/forms.htm | By application due date.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade, SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions that have elected to participate in E.O. 12372 can be found on the following URL: http://www.whitehouse.gov/omb/grants/spoc.html.

5. Funding Restrictions

Grant awards will not allow reimbursement of pre-award costs.

OCS will not fund any project where the role of the applicant is primarily to serve as a conduit for funds to organizations other than the applicant. The applicant must have a substantive role in the implementation of the project for which funding is requested. This prohibition does not bar the making of sub-grants or sub-contracting for specific services or activities needed to conduct the project.

Each application may include only one proposed project.

6. Other Submission Requirements

Submission by Mail: An applicant must provide an original application with all attachments, signed by an authorized representative and two copies. Please see Section IV.3 for an explanation of due dates. Applications should be mailed to: Department of Health and Human Services (HHS), Administration for Children and Families (ACF), Office of Community Services (OCS) Operations Center, Attention: Barbara Ziegler Johnson, 1515 Wilson Blvd., Suite 100, Arlington, VA 22209.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: Department of Health and Human Services (HHS), Administration for Children and Families (ACF), Office of Community Services (OCS) Operations Center, Attention: Barbara Ziegler Johnson, 1515 Wilson Blvd., Suite 100, Arlington, VA 22209.

Electronic Submission: http://www.Grants.gov. Please see Section IV.2 for guidelines and requirements when submitting applications electronically.

V. Application Review Information

The Paperwork Reduction Act of 1995 (Pub. L. 104-13)

Public reporting burden for this collection of information is estimated to average 10 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

The following are instructions and guidelines on how to prepare the “project summary/abstract” and “full project description” sections of the application. Under the evaluation criteria section, note that each criterion is preceded by the generic evaluation requirement under the ACF Uniform Project Description (UPD).

Part I—The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Explain how the project will assist the CSBG eligible entity in correcting programmatic deficiencies and stabilizing program operations.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate; (c) a statement from a State taxing body, State attorney general, or other appropriate State official certifying that the applicant organization has a non-profit status and that none of the net earnings accrue to any private shareholders or individuals; (d) a certified copy of the organization's certificate of incorporation or similar document that clearly establishes non-profit status; (e) any of the items immediately above for a State or national parent organization and a statement signed by the parent organization that the applicant organization is a local non-profit affiliate.

Third-Party Agreements

Provide written and signed agreements between grantees and subgrantees or subcontractors or other cooperating entities. These agreements must detail scope of work to be performed, work schedules, remuneration, and other terms and conditions that structure or define the relationship.

Budget and Budget Justification

Provide a budget with line-item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

Evaluation Criteria: The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Approach 30 Points

Factors: The work program is results-oriented and appropriately related to the CSBG legislative mandate. The extent to which the applicant describes how it will involve the local CAA Board of Directors and other partners in the community in its activities. The extent to which the applicant addresses: specific outcomes to be achieved; performance targets which the project is committed to achieving; critical milestones, which must be achieved if results are to be gained; and organizational support; the level of support including the priority this project has for the agency.

Objectives and Need for Assistance 25 Points

Factors: The applicant documents that the project addresses vital needs related to the purposes stated and discussed under this announcement.

Results or Benefits Expected 20 Points

Factor: The extent to which the applicant adequately describes how the project will assure long-term program and management improvements that will aid in removal from the “at risk category.”

Organizational Profiles 20 Points

Factors: The applicant fully describes, for example in a resume, the experience and skills of the proposed resources of technical assistance showing specific qualifications including how the CSBG eligible entities will be monitored for a specified period of time following the corrective action to assure long-term program and management improvements that will aid the organization from being in the “at-risk category” again.

Budget and Budget Justification 5 Points

Factors: (a) The extent to which the resources requested are reasonable and adequate to accomplish the project. (0-3 points)

(b) The extent to which total costs are reasonable and consistent with anticipated results. (0-2 points)

2. Review and Selection Process

No grant award will be made under this announcement on the basis of an incomplete application.

Since ACF will be using non-Federal reviewers in the process, applicants have the option of omitting from the application copies (not the original) specific salary rates or amounts for individuals specified in the application budget and Social Security Numbers, if otherwise required for individuals. The copies may include summary salary information.

Approved But Unfunded Applications

In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in later competition.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

Grantees are subject to the requirements in 45 CFR Part 74 (non-governmental) or 45 CFR Part 92 (governmental) and 45 CFR Part 1050.

3. Reporting Requirements

Grantees will be required to submit program progress and financial reports (SF-269) throughout the project period. Program progress and financial reports are due 30 days after the reporting period. In addition, final programmatic and financial reports are due 90 days after the close of the project period.

Program Progress Reports: Semi-Annually.

Financial Reports: Semi-Annually.

VII. Agency Contacts

Program Office Contact

Dr. Margaret Washnitzer, Department of Health and Human Services (HHS), Administration for Children and Families (ACF), Office of Community Services Operations Center, 1515 Wilson Blvd., Suite 100, Arlington, VA 22209. Phone: 800-281-9519. E-mail: OCSGRANTS@acf.hhs.gov.

Grants Management Office Contact

Barbara Ziegler-Johnson, Department of Health and Human Services (HHS), Administration for Children and Families (ACF), Office of Community Services Operations Center, 1515 Wilson Blvd., Suite 100, Arlington, VA 22209. Phone: 800-281-9519. E-mail: OCSGRANTS@acf.hhs.gov.

VIII. Other Information

The FY 2006 President's budget does not include or propose funding for the community Services Block Grant Training and Technical Assistance Program. Future funding is based on the availability of Federal funds.

Direct Federal grants, subaward funds, or contracts under the Administration for Children and Families programs shall not be used to support inherently religious activities such as religious instruction, worship, or proselytization. Therefore, organizations must take steps to separate, in time or location, their inherently religious activities from the services funded under this program. Regulations pertaining to the Charitable Choice Provisions Applicable to Programs Authorized under the Community Services Block Grant Act can be found at either 45 CFR Part 1050 or the HHS Web site at http://www.os.dhhs.gov/fbci/waisgate21.pdf.

Notice: Beginning with FY 2006, the Administration for Children and Families (ACF) will no longer publish grant announcements in the Federal Register. Beginning October 1, 2005 applicants will be able to find a synopsis of all ACF grant opportunities and apply electronically for opportunities via: http://www.Grants.gov. Applicants will also be able to find the complete text of all ACF grant announcements on the ACF Web site located at: http://www.acf.hhs.gov/grants/index.html.

Applicants will not be sent acknowledgements of received applications.

Dated: May 5, 2005.
Josephine B. Robinson,
Director, Office of Community Services.

[FR Doc. 05-9427 Filed 5-11-05; 8:45 am]

BILLING CODE 4184-01-P